DEPARTMENT OF JUSTICE

Antitrust Division

Notice Pursuant to the National Cooperative Research and Production Act of 1993—Wireless Industrial Technology Konsortium Inc.

Notice is hereby given that, on December 2, 2008, pursuant to Section 6(a) of the National Cooperative Research and Production Act of 1993, 15 U.S.C. 4301 et seq. (“the Act”) Wireless Industrial Technology Konsortium Inc. (“WITK”) has filed written notifications simultaneously with the Attorney General and the Federal Trade Commission disclosing changes in its membership. The notifications were filed for the purpose of extending the Act's provisions limiting the recovery of antitrust plaintiffs to actual damages under specified circumstances. Specifically, Softing AG, Haar, GERMANY; and Cooper Industries, Houston, TX have been added as parties to this venture. Also, Airsprite Technologies, Inc., Marlborough, MA has withdrawn as a party to this venture.

No other changes have been made in either the membership or planned activity of the group research project. Membership in this group research project remains open, and WITK intends to file additional written notifications disclosing all changes in membership.

On August 8, 2008, WITK filed its original notification pursuant to Section 6(a) of the Act. The Department of Justice published a notice in the Federal Register pursuant to Section 6(b) of the Act on September 18, 2008 (73 FR 54170).

Patricia A. Brink,
Deputy Director of Operations, Antitrust Division.

[FR Doc. E9-758 Filed 1-16-09; 8:45 am]

BILLING CODE 4410-11-M